DEPARTMENT OF COMMERCE

International Trade Administration

[A-122-857]

Certain Softwood Lumber Products from Canada: Final Results of Antidumping Duty Administrative Review; 2017-2018

AGENCY: Enforcement and Compliance, International Trade Administration, Department of Commerce.

SUMMARY: The Department of Commerce (Commerce) determines that producers and/or exporters subject to this administrative review made sales of subject merchandise at less than normal value during the period of review (POR), June 30, 2017 through December 31, 2018.

DATES: Effective November 30, 2020.

FOR FURTHER INFORMATION CONTACT: Jeff Pedersen (Canfor), Stephen Bailey (Resolute), Thomas Martin (West Fraser), or Maisha Cryor, AD/CVD Operations, Office IV, Enforcement and Compliance, International Trade Administration, Department of Commerce, 1401 Constitution Avenue NW, Washington, DC 20230; telephone: (202) 482-2769, (202) 482-0193, (202) 482-3936, or (202) 482-5831, respectively.

SUPPLEMENTARY INFORMATION:

Background

Commerce published the Preliminary Results of this administrative review on February 7, 2020.¹ This review covers 253 producers/exporters of subject merchandise, including three mandatory respondents: Canfor,² Resolute,³ and West Fraser.⁴ For events subsequent to the Preliminary Results, see Commerce's Issues and Decision Memorandum.⁵ The final weighted-average dumping margins are listed below in the “Final Results of Review” section of this notice. Commerce conducted this administrative review in accordance with section 751(a) of the Tariff Act of 1930, as amended (the Act).

¹ See Certain Softwood Lumber Products from Canada: Preliminary Results of Antidumping Duty Administrative Review and Rescission of Review, in Part; 2017-2018, 85 FR 7282 (February 7, 2020) (Preliminary Results) and accompanying Preliminary Decision Memorandum (PDM).

² We continue to treat Canfor Corporation; Canadian Forest Products Ltd.; and Canfor Wood Products Marketing Ltd. (collectively, Canfor) as a single entity. See Preliminary Results PDM at 5.

³ We continue to treat Resolute Growth Canada Inc.; Forest Products Mauricie LP; Société en commandite Scierie Opitciwan; Resolute-LP Engineered Wood Larouche Inc.; Resolute-LP Engineered Wood St-Prime Limited Partnership; and Resolute FP Canada Inc. (collectively, Resolute) as a single entity. See Preliminary Results PDM at 6.

⁴ We continue to treat West Fraser Mills Ltd.; Blue Ridge Lumber Inc.; Manning Forest Products Ltd.; and Sundre Forest Products Inc. (collectively, West Fraser) as a single entity. See Preliminary Results PDM at 6-7.

⁵ See IDM.

Scope of the Order

The product covered by this review is softwood lumber from Canada. For a full description of the scope, see the IDM.

Analysis of Comments Received

All issues raised in the case briefs filed in this administrative review are addressed in the Issues and Decision Memorandum (IDM). A list of the topics discussed in the Issues and Decision Memorandum is appended to this notice. The IDM is a public document and is available electronically via Enforcement and Compliance's Antidumping and Countervailing Duty Centralized Electronic Services System (ACCESS). ACCESS is available to registered users at http://access.trade.gov. In addition, a complete version of the IDM is also accessible at http://enforcement.trade.gov/frn/index.html. The signed IDM and the electronic versions of the IDM are identical in content.

Changes Since the Preliminary Results

Based on our review of the record and comments received from interested parties regarding our Preliminary Results, Commerce has made the following changes to the Preliminary Results:

• As detailed in the February 28, 2020 Memorandum, “Correction of Company names on the Record,” we revised certain names listed in the Preliminary Results. These revisions resulted in the number of stated producers/exporters under review changing from 257 to 253.

• In the Preliminary Results, we incorrectly stated the all-others rate established in the LTFV investigation to be 6.58 percent. The correct all-others rate, as stated in the Softwood Lumber Order, is 6.04 percent.⁶

⁶ See Certain Softwood Lumber Products from Canada: Antidumping Duty Order and Partial Amended Final Determination, 83 FR 350 (January 3, 2018) (Softwood Lumber Order).

• We adjusted Canfor's affiliated purchase prices of electricity and an input the identity of which is proprietary by the percentage the affiliated electricity purchases were below market prices.⁷

⁷ See IDM at Comment 4.

• We included Canfor's inventory carrying costs incurred in the United States that were reported in U.S. dollars in calculating Canfor's final dumping margin.⁸

⁸ See IDM at Comment 7.

• We included Resolute's domestic inventory carrying costs in the constructed export price calculation.⁹

⁹ See IDM at Comment 9.

Final Results of Review

As a result of this administrative review, we are assigning the following weighted-average dumping margins to the manufacturers/exporters listed below for the period of June 30, 2017 through December 31, 2018:

Exporter/producer | Weighted- average margin (percent)
Canfor Corporation/Canadian Forest Products Ltd./Canfor Wood Products Marketing Ltd | 1.99
Resolute Growth Canada Inc./Forest Products Mauricie LP, Société en commandite Scierie Opitciwan/Resolute-LP Engineered Wood Larouche Inc./Resolute-LP Engineered Wood St-Prime Limited Partnership/Resolute FP Canada Inc | 1.15
West Fraser Mills Ltd., Blue Ridge Lumber Inc./Manning Forest Products Ltd./and Sundre Forest Products Inc | 1.40
Non-selected Companies | 1.57

Assessment Rates

Pursuant to section 751(a)(2)(A) the Act and 19 CFR 351.212(b)(1), Commerce shall determine, and U.S. Customs and Border Protection (CBP) shall assess, antidumping duties on all appropriate entries of subject merchandise in accordance with the final results of this review.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

Generally, when calculating margins for non-selected respondents, Commerce looks to section 735(c)(5) of the Act for guidance, which provides instructions for calculating the all-others margin in an investigation. Section 735(c)(5)(A) of the Act provides that when calculating the all-others margin, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 1.99 percent for Canfor, 1.15 percent for Resolute, and 1.40 percent for West Fraser. In accordance with section 735(c)(5)(A) of the Act, Commerce assigned the weighted-average of these three calculated weighted-average dumping margins, 1.57 percent, to the non-selected companies in these final results. The rate calculated for the non-selected companies is a weighted-average percentage margin which is calculated based on the U.S. values of the three reviewed companies with an affirmative antidumping duty margin.¹⁰ Accordingly, we have applied a rate of 1.57 percent to the non-selected companies.¹¹ A list of all non-selected companies is included in Attachment II.

¹⁰ See Ball Bearings and Parts Thereof from France, Germany, Italy, Japan, and the United Kingdom: Final Results of Antidumping Duty Administrative Reviews, Final Results of Changed-Circumstances Review, and Revocation of an Order in Part, 75 FR 53661, 53663 (September 1, 2010).

¹¹ See Memorandum, “Calculation of the Rate for Non-Selected Respondents,” dated concurrently with this notice.

For entries of subject merchandise during the POR produced by each respondent for which it did not know its merchandise was destined for the United States, we will instruct CBP to liquidate such entries at the all-others rate if there is no rate for the intermediate company or companies involved in the transaction.

We intend to issue liquidation instructions to CBP 15 days after publication of the final results of this administrative review.

Cash Deposit Requirements

The following cash deposit requirements will be effective for all shipments of subject merchandise entered, or withdrawn from warehouse, for consumption on or after the publication date of these final results, as provided by section 751(a)(2)(C) of the Act: (1) The cash deposit rate for the companies under review will be equal to the weighted-average dumping margin listed above in the “Final Results of Review” section; (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 6.04 percent ad valorem, the all-others rate established in the less than fair value investigation.¹² These cash deposit requirements, when imposed, shall remain in effect until further notice.

¹² See Certain Softwood Lumber Products from Canada: Final Affirmative Determination of Sales at Less Than Fair Value and Affirmative Final Determination of Critical Circumstances, 82 FR 51806 (November 8, 2017).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act and 19 CFR 351.213(h).

Dated: November 23, 2020.
Joseph A. Laroski Jr.,
Deputy Assistant Secretary for Policy and Negotiations.

Appendix I

List of Topics Discussed in the Issues and Decision Memorandum

I. Summary

II. Background

III. Scope of the Order

IV. Discussion of the Issues

Comment 1. Particular Market Situation Allegation

Comment 2. Canfor's Reported Grades

Comment 3. Canfor's Reported Costs

Comment 4. Valuing Affiliated Transactions Involving Canfor's Grande Prairie Mill

Comment 5. Valuing Canfor's Seed Purchases

Comment 6. Canfor's Price George Sawmill's Purchases of Electricity

Comment 7. Ministerial Error Regarding Canfor's Inventory Carrying Costs Incurred in the United States

Comment 8. Whether to Adjust Resolute's Grade Groups and Grade Equivalents

Comment 9. Whether to Adjust for DINVCARU and INVCARU

Comment 10. Whether to Adjust Resolute's Costs for Other Direct Charges

Comment 11. Zeroing

Comment 12. The Differential Pricing Analysis is Inconsistent with the AD Agreement

Comment 13. The Cohen's d and Ratio Tests are Irrational

Comment 14. Time Periods for the Cohen's d Test

Comment 15. Simple Average of Variances in the Cohen's d Coefficient

Comment 16. External Factors Which Explain the Price Differences

Comment 17. Cohen's d Test is Subject to Rule-Making Procedures

Comment 18. Whether Commerce Should Modify West Fraser's Reporting of Alternate Grades

Comment 19. Whether Commerce Should Apply Facts Available Due to Discrepancies in West Fraser's Reported Tally Sales

Comment 20. Whether to Apply Offsets to West Fraser's General and Administrative (G&A) Expense Ratio

Comment 21. Whether Commerce Should Allocate Certain Affiliate Expenses to West Fraser G&A Expenses

Comment 22. Whether Commerce Should Offset West Fraser's G&A Expenses for Greenhouse Gas Credits

Comment 23. Whether Commerce Should Include Equity-Based Compensation in G&A Expenses

Comment 24. Whether Commerce Should Exclude Foreign Exchange Gain in West Fraser's Financial Expense Ratio

Comment 25. Iterations of Olympic's Name

Comment 26. Listing of Tolko's Name in the Final Results

V. Recommendation

Appendix II

Non-Selected Exporters/Producers

• 1074712 BC Ltd.

• 5214875 Manitoba Ltd.

• 752615 B.C Ltd, Fraserview Remanufacturing Inc, dba Fraserview Cedar Products.

• 9224-5737 Quebec Inc. (aka A.G. Bois)

• A.B. Cedar Shingle Inc.

• Absolute Lumber Products, Ltd.

• AJ Forest Products Ltd.

• Alberta Spruce Industries Ltd.

• Aler Forest Products, Ltd.

• Alpa Lumber Mills Inc.

• American Pacific Wood Products

• Anbrook Industries Ltd.

• Andersen Pacific Forest Products Ltd.

• Anglo American Cedar Products Ltd.

• Anglo-American Cedar Products Ltd.

• Antrim Cedar Corporation

• Aquila Cedar Products, Ltd.

• Arbec Lumber Inc.

• Aspen Planers Ltd.

• B&L Forest Products Ltd

• B.B. Pallets Inc.

• Babine Forest Products Limited

• Bakerview Forest Products Inc.

• Bardobec Inc.

• Barrette-Chapais Ltee

• BarretteWood Inc.

• Benoit & Dionne Produits Forestiers Ltee

• Best Quality Cedar Products Ltd.

• Blanchet Multi Concept Inc.

• Blanchette & Blanchette Inc.

• Bois Aise de Montreal inc.

• Bois Bonsaï inc.

• Bois D'oeuvre Cedrico Inc. (aka Cedrico Lumber Inc.)

• Bois Daaquam inc.

• Bois et Solutions Marketing SPEC, Inc.

• Boisaco

• Boscus Canada Inc.

• Boucher Bros. Lumber Ltd.

• BPWood Ltd.

• Bramwood Forest Inc.

• Brunswick Valley Lumber Inc.

• Busque & Laflamme Inc.

• C&C Wood Products Ltd.

• Caledonia Forest Products Inc.

• Campbell River Shake & Shingle Co., Ltd.

• Canadian American Forest Products Ltd.

• Canadian Wood Products Inc.

• Canusa cedar inc.

• Canyon Lumber Company, Ltd.

• Careau Bois inc.

• Carrier & Begin Inc.

• Carrier Forest Products Ltd.

• Carrier Lumber Ltd.

• Cedar Valley Holdings Ltd.

• Cedarline Industries, Ltd.

• Central Cedar Ltd.

• Centurion Lumber, Ltd.

• Chaleur Sawmills LP

• Channel-ex Trading Corporation

• Clair Industrial Development Corp. Ltd.

• Clermond Hamel Ltee

• Coast Clear Wood Ltd.

• Coast Mountain Cedar Products Ltd.

• Commonwealth Plywood Co. Ltd.

• Comox Valley Shakes Ltd.

• Conifex Fibre Marketing Inc.

• Cowichan Lumber Ltd.

• CS Manufacturing Inc. dba Cedarshed

• CWP—Industriel inc.

• CWP—Montreal inc.

• D & D Pallets, Ltd.

• Dakeryn Industries Ltd.

• Decker Lake Forest Products Ltd.

• Delco Forest Products Ltd.

• Delta Cedar Specialties Ltd.

• Devon Lumber Co. Ltd.

• DH Manufacturing Inc.

• Direct Cedar Supplies Ltd.

• Doubletree Forest Products Ltd.

• Downie Timber Ltd.

• Dunkley Lumber Ltd.

• EACOM Timber Corporation

• East Fraser Fiber Co. Ltd.

• Edgewood Forest Products Inc.

• ER Probyn Export Ltd.

• Eric Goguen & Sons Ltd.

• Falcon Lumber Ltd.

• Fontaine Inc

• Foothills Forest Products Inc.

• Fornebu Lumber Co. Ltd.

• Fraser Specialty Products Ltd.

• Fraserview Cedar Products

• Furtado Forest Products Ltd.

• G & R Cedar Ltd.

• Galloway Lumber Company Ltd.

• Glandell Enterprises Inc.

• Goat Lake Forest Products Ltd.

• Goldband Shake & Shingle Ltd.

• Golden Ears Shingle Ltd.

• Goldwood Industries Ltd.

• Goodfellow Inc.

• Gorman Bros. Lumber Ltd.

• Groupe Crete Chertsey

• Groupe Crete division St-Faustin

• Groupe Lebel inc.

• Groupe Lignarex inc.

• H.J. Crabbe & Sons Ltd.

• Haida Forest Products Ltd.

• Harry Freeman & Son Ltd.

• Hornepayne Lumber LP

• Imperial Cedar Products, Ltd.

• Imperial Shake Co. Ltd.

• Independent Building Materials Dist.

• Interfor Corporation

• Island Cedar Products Ltd

• Ivor Forest Products Ltd.

• J&G Log Works Ltd.

• J.D. Irving, Limited

• J.H. Huscroft Ltd.

• Jan Woodland (2001) inc.

• Jhajj Lumber Corporation

• Kalesnikoff Lumber Co. Ltd.

• Kan Wood, Ltd.

• Kebois Ltee/Ltd

• Keystone Timber Ltd.

• Kootenay Innovative Wood Ltd.

• Lafontaine Lumber Inc.

• Langevin Forest Products Inc.

• Lecours Lumber Co. Limited

• Ledwidge Lumber Co. Ltd.

• Leisure Lumber Ltd.

• Les Bois d'oeuvre Beaudoin Gauthier inc.

• Les Bois Martek Lumber

• Les Bois Traites M.G. Inc.

• Les Chantiers de Chibougamau ltd.

• Les Produits Forestiers D&G Ltee

• Leslie Forest Products Ltd.

• Lignum Forest Products LLP

• Linwood Homes Ltd.

• Longlac Lumber Inc.

• Lulumco inc.

• Magnum Forest Products, Ltd.

• Maibec inc.

• Manitou Forest Products Ltd.

• Marcel Lauzon Inc.

• Marwood Ltd.

• Materiaux Blanchet Inc.

• Matsqui Management and Consulting Services Ltd. dba Canadian Cedar Roofing Depot

• Metrie Canada Ltd.

• Mid Valley Lumber Specialties, Ltd.

• Midway Lumber Mills Ltd.

• Mill & Timber Products Ltd.

• Millar Western Forest Products Ltd.

• Mobilier Rustique (Beauce) Inc.

• MP Atlantic Wood Ltd.

• Multicedre ltee

• Nakina Lumber Inc.

• National Forest Products Ltd.

• New Future Lumber Ltd.

• Nicholson and Cates Ltd

• Norsask Forest Products Limited Partnership

• North American Forest Products Ltd. (located in Saint-Quentin, New Brunswick)

• North American Forest Products, Ltd. (located in Abbotsford, British Columbia)

• North Enderby Timber Ltd.

• Olympic Industries ULC/Olympic Industries ULC-Reman/Olympic Industries ULC-Reman Code/Olympic Industries Inc./Olympic Industries Inc-Reman Codes

• Pacific Coast Cedar Products Ltd.

• Pacific Pallet, Ltd.

• Pacific Western Wood Works Ltd.

• Parallel Wood Products Ltd.

• Pat Power Forest Products Corporation

• Phoenix Forest Products Inc.

• Pine Ideas Ltd.

• Pioneer Pallet & Lumber Ltd

• Porcupine Wood Products Ltd.

• Power Wood Corp.

• Precision Cedar Products Corp.

• Prendiville Industries Ltd. (aka Kenora Forest Products)

• Produits Forestiers Petit Paris

• Produits forestiers Temrex, s.e.c.

• Produits Matra Inc.

• Promobois G.D.S. inc.

• Rayonier A.M. Canada GP

• Rembos Inc.

• Rene Bernard Inc.

• Richard Lutes Cedar Inc.

• Rielly Industrial Lumber Inc.

• Roland Boulanger & Cie Ltee

• S & K Cedar Products Ltd.

• S&R Sawmills Ltd

• S&W Forest Products Ltd.

• San Industries Ltd.

• Sawarne Lumber Co. Ltd.

• Scierie Alexandre Lemay & Fils Inc.

• Scierie St‐Michel inc.

• Scierie West Brome Inc.

• Scotsburn Lumber Co. Ltd.

• Sechoirs de Beauce Inc.

• Serpentine Cedar Ltd.

• Serpentine Cedar Roofing Ltd.

• Sexton Lumber Co. Ltd.

• Sigurdson Forest Products Ltd.

• Silvaris Corporation

• Silver Creek Premium Products Ltd.

• Sinclar Group Forest Products Ltd.

• Skana Forest Products Ltd.

• Skeena Sawmills Ltd

• Sound Spars Enterprise Ltd.

• South Beach Trading Inc.

• Specialiste du Bardeau de Cedre Inc

• Spruceland Millworks Inc.

• Surrey Cedar Ltd.

• T.G. Wood Products, Ltd

• Taan Forest Products

• Taiga Building Products Ltd.

• Tall Tree Lumber Company

• Teal Cedar Products Ltd.

• Tembec Inc.

• Terminal Forest Products Ltd.

• The Teal-Jones Group

• The Wood Source Inc.

• Tolko Industries Ltd./Tolko Marketing and Sales Ltd./Gilbert Smith Forest Products Ltd.

• Trans-Pacific Trading Ltd.

• Triad Forest Products Ltd.

• Twin Rivers Paper Co. Inc.

• Tyee Timber Products Ltd.

• Universal Lumber Sales Ltd.

• Usine Sartigan Inc.

• Vaagen Fibre Canada, ULC

• Valley Cedar 2 ULC

• Vancouver Island Shingle, Ltd.

• Vancouver Specialty Cedar Products Ltd.

• Visscher Lumber Inc

• W.I. Woodtone Industries Inc.

• Waldun Forest Product Sales Ltd.

• Watkins Sawmills Ltd.

• West Bay Forest Products Ltd.

• West Fraser Timber Co. Ltd.

• West Wind Hardwood Inc.

• Western Forest Products Inc.

• Western Lumber Sales Limited

• Western Wood Preservers Ltd.

• Weston Forest Products Inc.

• Westrend Exteriors Inc.

• Weyerhaeuser Co.

• White River Forest Products L.P.

• Winton Homes Ltd.

• Woodline Forest Products Ltd.

• Woodstock Forest Products

• Woodtone Specialties Inc.

• Yarrow Wood Ltd.

[FR Doc. 2020-26333 Filed 11-27-20; 8:45 am]

BILLING CODE 3510-DS-P